DEPARTMENT OF HOUSING AND URBAN DEVELOPMENT

[Docket No. FR-7092-N 39; OMB Control No.: 2577-0287]

30-Day Notice of Proposed Information Collection: Comment Request Alternative Inspections—Housing Choice Voucher Program

ACTION: Notice.

SUMMARY: HUD is seeking approval from the Office of Management and Budget (OMB) for the information collection described below. In accordance with the Paperwork Reduction Act, HUD is requesting comments from all interested parties on the proposed collection of information. The purpose of this notice is to allow for 30 days of public comment.

DATES: Comments Due Date: January 5, 2026.

ADDRESSES: Interested persons are invited to submit comments regarding this proposal. Written comments and recommendations for the proposed information collection should be sent within 30 days of publication of this notice to www.reginfo.gov/public/do/PRAMain. Find this particular information collection by selecting “Currently under 30-day Review—Open for Public Comments” or by using the search function.

FOR FURTHER INFORMATION CONTACT: Anna Guido, PRA Compliance Officer, Paperwork Reduction Act Division, PRAD, Department of Housing and Urban Development, 451 7th Street SW, Room 8210, Washington, DC 20410; email at PaperworkReductionActOffice@hud.gov, ATTN: Anna Guido, telephone (202) 402-5535. This is not a toll-free number. HUD welcomes and is prepared to receive calls om individuals who are deaf or hard of hearing, as well as individuals with speech or communication disabilities. To learn more about how to make an accessible telephone call, please visit https://www.fcc.gov/consumers/guides/telecommunications-relay-service-trs. Copies of available documents submitted to OMB may be obtained from Ms. Guido.

SUPPLEMENTARY INFORMATION: This notice informs the public that HUD is seeking approval from OMB for the information collection described in Section A. The Federal Register notice that solicited public comment on the information collection for a period of 60 days was published on September 18, 2025 at 90 FR 45051.

A. Overview of Information Collection

Title of Information Collection: Alternative Inspections—Housing Choice Voucher Program.

OMB Approval Number: 2577-0287.

Type of Request: Reinstatement, with change.

Form Number: N/A.

Description of the need for the information and proposed use: A PHA may comply with inspection requirements by relying on an alternative inspection method. If the inspection method is not one conducted for another housing program (HOME Investment Partnerships (HOME) program, Low-Income Housing Tax Credits (LIHTCs), or that performed by HUD), the PHA must submit a request to HUD's Real Estate Assessment Center (REAC) for approval of the alternative method. The submission must include a copy of the inspection method the PHA is requesting to use and an analysis that shows that the alternative method meets or exceeds HQS, now defined as NSPIRE Standards. Also, PHAs with approved alternative inspection methods must monitor changes to the standards and requirements of this method and if changes are made, they must submit to HUD a copy of the revised standards and requirements along with a revised comparison to HQS, now defined as NSPIRE Standards. All submissions will be collected via email.

Information collection | Number of respondents | Frequency of response | Responses per annum | Burden hour per response | Annual burden hours | Hourly cost per response | Annual cost
Initial email submission for HUD approval to use alternative inspection method | 50 | 1 | 50 | 5 | 250 | $39.77 | $9,922.50
Email submission for HUD approval to continue using alternative inspection method after modifications | 15 | 1 | 15 | 3 | 45 | 39.77 | 1,789.50
Total | 65 |  | 65 |  | 295 |  | 11,732.15

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 2 of the Paperwork Reduction Act of 1995, 44 U.S.C. 3507.

Anna Guido,
Department PRA Compliance Officer, Office of Policy Development and Research, Chief Data Officer.

[FR Doc. 2025-21927 Filed 12-3-25; 8:45 am]

BILLING CODE 4210-67-P